DEPARTMENT OF AGRICULTURE

Forest Service

Notice of New Fee Site Federal Lands Recreation Enhancement Act, (Title VIII, Pub. L. 108-447)

AGENCY: Caribou-Targhee National Forest, USDA Forest Service.

ACTION: Notice of New Fee Site.

SUMMARY: The Montpelier Ranger District of the Caribou-Targhee National Forest will begin charging a $10 fee for single family overnight camping at the Beaver Creek Campground. There will also be a $5 fee for an extra vehicle. Overnight camping at other campgrounds on the Caribou-Targhee National Forest have shown that publics appreciate and enjoy the availability of developed recreation facilities. Funds from the fee charges will be used for the continued operation and maintenance of the Beaver Creek Campground.

DATES: Beaver Creek Campground will become available for overnight camping on June 15, 2007 (weather permitting).

ADDRESSES: Forest Supervisor, Caribou-Targhee National Forest, 1405 Hollipark Dr., Idaho Falls, Idaho 83401.

FOR FURTHER INFORMATION CONTACT: Maury Young, Recreation Technician, 208-847-0375.

SUPPLEMENTARY INFORMATION: The Federal Recreation Lands Enhancement Act (Title VII, Pub. L. 108-447) directed the Secretary of Agriculture to publish a six month advance notice in the Federal Register whenever new recreation fee areas are established.

The Montpelier Ranger District of the Caribou-Targhee National Forest currently has 10 other fee campgrounds. These facilities are in close proximity to Bear Lake, a large body of water located on the border of Idaho and Utah. This area offers significant recreational opportunities and is rich in historical and cultural importance. A market analysis indicates that the $10/per night single family camping fee is both reasonable and acceptable for this sort of unique recreation experience.

Dated: November 17, 2006.
Cheryl Bainbridge,
Acting Caribou-Targhee National Forest Supervisor.

[FR Doc. E6-19840 Filed 11-22-06; 8:45 am]

BILLING CODE 3410-11-P